DEPARTMENT OF TRANSPORTATION

Federal Highway Administration

Environmental Assessment or Environmental Impact Statement: Summit County, OH

AGENCY: Federal Highway Administration (FHWA), DOT.

ACTION: Notice of intent.

SUMMARY: The FHWA is issuing this notice to advise the public that an environmental assessment or environmental impact statement will be prepared for a proposed project in Summit County, Ohio.

FOR FURTHER INFORMATION CONTACT: Michael B. Armstrong, Urban Programs Engineer, Federal Highway Administration, 200 N. High Street, Room 328, Columbus, Ohio 43215, Telephone: (614) 280-6855.

SUPPLEMENTARY INFORMATION: The FHWA, in cooperation with the Ohio Department of Transportation (ODOT), will prepare an environmental assessment (EA) or environmental impact statement (EIS) on a proposal to upgrade 5.2 miles of SR 8 between SR 303 and I-271 in Summit County, Ohio.

Upgrading SR 8 is considered necessary to improve the traffic flow and to meet current design standards. The proposal will reduce the existing vehicular traffic congestion along SR8.

Alternatives under consideration include: (1) Taking no action; (2) upgrading the existing 4-lane controlled access facility to a 4-lane limited access facility; (3) constructing a highway on new alignment; and (4) upgrading the existing 4-lane controlled access facility to a 6-lane controlled access facility.

Letters describing the proposed action and soliciting comments will be sent to appropriate Federal, State and, local agencies, and to private organizations and citizens who have previously expressed or are known to have interest in this proposal. A public hearing was previously held for the project on May 24, 2000. In Spring of 2002, an additional public hearing will be held in the project area. Public notice will be given of the time and place of the public hearing. The draft EA or draft EIS will be available for public and agency review and comment prior to the public hearing. No formal scoping meeting is planned at this time.

To ensure that the full range of issues related to this proposed action are addressed and all significant issues identified, comments and suggestions are invited from all interested parties. Comments or questions concerning this proposed action and the EA or EIS should be directed to the FHWA at the address provided above.

(Catalog of the Federal Domestic Assistance Program Number 20.205, Highway Planning and Construction. The regulations implementing Executive Order 12372 regarding intergovernmental consultation on Federal programs and activities apply to this program.)

Issued on: September 20, 2001.
Michael B. Armstrong,
Urban Programs Engineer, Federal Highway Administration, Columbus, Ohio.

[FR Doc. 01-24284 Filed 9-27-01; 8:45 am]

BILLING CODE 4910-22-P